DEPARTMENT OF STATE

[Public Notice 4823]

Shipping Coordinating Committee Notice of Meeting

The Shipping Coordinating Committee (SCC) will conduct an open meeting between 10:30 a.m. and 12 p.m. on Wednesday, 10 November 2004, in Room 4420, at U. S. Coast Guard Headquarters, 2100 Second Street, SW., Washington, DC 20593-0001. The primary purpose of the meeting is to finalize preparations for the 93rd Session of the International Maritime Organization (IMO) to be held at the IMO Headquarters in London, England from 15 November to 19 November 2004.

The primary matters to be considered include:

—Report on the status of Conventions and other multilateral instruments.

—Consideration of the strategy and policy of the Organization.

—Voluntary IMO Member State Audit Scheme.

—Resource management and other financial matters.

—Consideration of the report of the Organization's Committees.

—Report on World Maritime Day 2004.

Members of the public may attend these meetings up to the seating capacity of the room. Interested persons may seek information by writing: Director, International Affairs, U.S. Coast Guard (G-CI), 2100 Second Street, SW., Washington, DC 20593-0001 or by calling: (202) 267-2246.

Dated: October 12, 2004.
Margaret F. Hayes,
Chairman, Shipping Coordinating Committee, Department of State.

[FR Doc. 04-23468 Filed 10-19-04; 8:45 am]

BILLING CODE 4710-07-P